DEPARTMENT OF AGRICULTURE

Rural Housing Service

[Docket No. RHS-23-CF-0009]

Announcement of the Availability of Fiscal Year 2023 Disaster Relief Supplemental Grant Funds for the Community Facilities Technical Assistance and Training Grant Program for Fiscal Year 2023

AGENCY: Rural Housing Service, USDA.

ACTION: Notice of funding of availability (NOFA).

SUMMARY: The Rural Housing Service (RHS or the Agency), a Rural Development (RD) agency of the United States Department of Agriculture (USDA), announces that it is accepting applications under the Consolidated Appropriations Act, 2023, for the Community Facilities Technical Assistance and Training Disaster Repair Grant Program to provide technical assistance for repairing essential community facilities damaged by Presidentially declared disasters in calendar year 2022. The funding amount is up to $2,500,000 and will remain available until expended. The grant funds will be administered in accordance with this notice of funding availability and all applicable statutory and regulatory requirements of the Community Facilities Technical Assistance and Training (CF TAT) Grant Program.

DATES: Complete applications for grants must be submitted according to the following deadlines:

Paper submissions: Paper submissions must be received by the Agency no later than 4:00 p.m. local time on November 29, 2023 to be eligible for funding under this grant opportunity. Late or incomplete applications will not be eligible for funding.

Electronic submissions: Electronic applications will be accepted via Grants.gov. The deadline for receipt of an electronic application via Grants.gov is 11:59 p.m. Eastern Time on November 24, 2023. The application dates and times are firm. The Agency will not consider any application received after the deadline. To submit an electronic application, follow the instructions for the CF TAT Disaster Repair Grant Program funding announcement located at http://www.grants.gov.

Prior to official submission of applications, applicants may request technical assistance or other application guidance from the Agency, as long as such requests are made prior to November 14, 2023. Technical assistance is not meant to be an analysis or assessment of the quality of the materials submitted, a substitute for agency review of completed applications, nor a determination of eligibility, if such determination requires in-depth analysis. The Agency will not solicit or consider scoring or eligibility information that is submitted after the application deadline. The Agency reserves the right to contact applicants to seek clarification information on materials contained in the submitted application.

ADDRESSES: This funding announcement will be announced on www.Grants.gov. Paper applications must be submitted to the USDA Rural Development State Office (RDSO) for the State where the Applicant is headquartered. For Projects involving multiple states, the application must be filed in the RDSO where the Applicant is located. Applicants are encouraged to contact their respective RDSO for an address to submit an application prior to the submission deadline date. Applicants may also request paper application packages from their respective RDSO. A list of the USDA RDSO contacts can be found at: https://www.rd.usda.gov/about-rd/state-offices.

Entities applying for assistance may download the application documents and requirements delineated in this notice from: https://www.Grants.gov. Application information for electronic submissions may be found at http://www.Grants.gov.

FOR FURTHER INFORMATION CONTACT: Nathan Chitwood, Special Projects Coordinator at email address nathan.chitwood@usda.gov, United States Department of Agriculture, Rural Development, Business Loop 70 West, Suite 235, Columbia, MO 65203; or via telephone at: 573-876-0965. For further information on submitting program applications under this notice, please contact the USDA RDSO in the state where the applicant's headquarters is located. A list of RDSO contacts is provided at the following link: https://www.rd.usda.gov/about-rd/state-offices.

SUPPLEMENTARY INFORMATION:

Overview

Federal Awarding Agency Name: Rural Housing Service (RHS).

Funding Opportunity Title: Community Facilities Technical Assistance and Training Disaster Repair Grant.

Announcement Type: Notice of Funding of Availability (NOFA).

Funding Opportunity Number: USDA-RD-CFDTAT-2023.

Assistance Listing: 10.766.

Dates: Applications must be submitted using one of the following methods:

• Paper submissions: The deadline for receipt of a paper application is 4:00 p.m. local time, November 29, 2023. Applicants intending to mail applications must provide sufficient time to permit delivery on or before the closing deadline date and time. Acceptance by the United States Postal Service or private mailer does not constitute delivery. Facsimile (FAX), electronic mail, and postage due applications will not be accepted.

• Electronic submissions: Electronic applications will be accepted via Grants.gov. The deadline for receipt of an electronic application via Grants.gov is 11:59 p.m. Eastern Time on November 24, 2023. The application dates and times are firm. The Agency will not consider any application received after the deadline.

Prior to official submission of applications, applicants may request technical assistance or other application guidance from the Agency, as long as such requests are made prior to November 14, 2023. Technical assistance is not meant to be an analysis or assessment of the quality of the materials submitted, a substitute for agency review of completed applications, nor a determination of eligibility, if such determination requires in-depth analysis. The Agency will not solicit or consider scoring or eligibility information that is submitted after the application deadline. The Agency reserves the right to contact applicants to seek clarification information on materials contained in the submitted application.

Rural Development Key Priorities: The Agency encourages applicants to consider projects that will advance the following key priorities (more details available at https://www.rd.usda.gov/priority-points):

• Reducing climate pollution and increasing resilience to the impacts of climate change through economic support to rural communities.

• Ensuring all rural residents have equitable access to RD programs and benefits from RD funded projects; and

• Assisting rural communities recover economically through more and better market opportunities and through improved infrastructure.

For further information, visit https://www.rd.usda.gov/priority-points.

A. Program Description

1. Purpose of the Program. The purpose of the CF TAT Disaster Repair Grant Program is to provide technical assistance and training with respect to essential community facilities programs. To meet this purpose, the Agency will make grants to public bodies and private nonprofit corporations, (such as States, counties, cities, townships, and incorporated towns and villages, boroughs, authorities, districts, and Indian tribes on Federal and State reservations) to provide assistance and/or training with respect to repairing essential community facilities. The Technical Assistance and/or training will assist communities, Indian tribes, and nonprofit corporations to identify and plan for community facility repairs as a result of damages resulting from Presidentially declared disasters in calendar year 2022, that exist in their area. Once those needs have been identified, the Grantee can assist in identifying public and private resources to finance those identified community facility needs.

This NOFA is being issued pursuant to the disaster funds made available by the Consolidated Appropriations Act, 2023. Grants will be provided to eligible applicants to provide technical assistance for repairing eligible essential community facilities damaged by Presidentially declared disasters in calendar year 2022. Subject to any updates to the Presidentially Declared Disasters, the following states have been identified with areas that have been impacted by qualifying events during CY 2022: Alaska, American Samoa, Arizona, California, Colorado, Florida, Idaho, Illinois,, Kansas, Kentucky, Maine, Massachusetts, Minnesota, Mississippi, Missouri, Montana, Nebraska, Nevada, New Hampshire, New Mexico, New York, North Carolina, North Dakota, Oklahoma, Oregon, Puerto Rico, Rhode Island, South Carolina, South Dakota, Tennessee, Texas, U.S. Virgin Islands, Vermont, Virginia, Washington, and West Virginia. For the most current list of Presidentially Declared Disasters, visit the United States (U.S.) Department of Homeland Security, Federal Emergency Management Agency (FEMA) website at https://www.fema.gov/disaster/declarations.

2. Statutory and Regulatory Authority. This NOFA is authorized pursuant to the CF TAT Grant program in title VI, section 6006 of the Agricultural Act of 2014 (Pub. L. 113-79) and Division N—Disaster Relief Supplemental Appropriations Act, 2023, of the Consolidated Appropriations Act, 2023, Public Law 117-328. Program regulations can be found at 7 CFR part 3570, subpart F.

3. Definitions. The definitions and abbreviations applicable to this Notice are published at 7 CFR 3570.252 (https://www.ecfr.gov/current/title-7/subtitle-B/chapter-XXXV/part-3570/subpart-F/section-3570.252).

4. Application of Awards. The Agency will review, evaluate, and score applications received in response to this notice based on the provisions found in 7 CFR part 3570, subpart F, and as indicated in this notice.

The requirements for submitting an application can be found at 7 CFR 3570.267 (https://www.ecfr.gov/current/title-7/subtitle-B/chapter-XXXV/part-3570/subpart-F/section-3570.267). All applicants can access application materials at https://www.Grants.gov. Applications must be received by the Agency by the due date listed in the DATES section of this Notice. Applications received after that due date will not be considered for funding. Paper copies of the applications must be submitted to the RDSO in which the applicant is headquartered. Electronic submissions must be submitted at https://www.Grants.gov. A listing of the RDSO contacts may be found at https://www.rd.usda.gov/files/CF_State_Office_Contacts.pdf. Applicants whose headquarters are in the District of Columbia will submit their application to the National Office in care of Shirley Stevenson, 1400 Independence Ave. SW, STOP 0787, Washington, DC 20250. Both paper and electronic applications must be received by the Agency by the deadlines stated in the DATES section of this Notice. The use of a courier and package tracking for paper applications is strongly encouraged. An applicant can only submit one application for funding. Application information for electronic submissions may be found at https://www.Grants.gov. Applications will not be accepted via FAX or email.

The Agency advises all interested parties that the applicant bears the burden in preparing and submitting an application in response to this notice whether or not the applicant receives any funding as a result of its application.

If the proposal involves large increases in employment; hazardous waste; a change in use, size, capacity, purpose, or location from an original facility; or is publicly controversial, the following is required: environmental documentation in accordance with 7 CFR part 1970; financial and statistical information; and written project description.

B. Federal Award Information

Type of Awards: Grants.

Fiscal Year Funds: FY 2023.

Available Funds: The FY 2023 funding amount is $2,500,000. Up to ten percent of the available funds may be awarded to the highest scoring Ultimate Recipient(s) as long as they score a minimum score of at least 70. The Agency reserves the right to reduce funding amounts based on the Agency's determination of available funding or other Agency funding priorities.

Award Amounts: Grant funds are limited and are awarded through a competitive process.

Minimum/Maximum Award Amount: Grant awards made to Ultimate Recipients will not exceed $50,000. The Agency has capped the grant awards for Technical Assistance Providers assisting Ultimate Recipients to not exceed $250,000. This applies even if the Technical Assistance Provider covers entities in one county, multiple counties, or multiple states.

Anticipated Award Date: Awards will be made on or before March 15, 2024.

Performance Period: The grant period is to be for no more than three years.

Renewal or Supplemental Awards: At this time, the Agency does not anticipate supplemental funding for the program.

Type of Assistance Instrument: Grant agreement.

C. Eligibility Information

1. Eligible Applicants and Project Purposes. Both the applicant and the use of funds must meet eligibility requirements. The applicant eligibility requirements can be found at 7 CFR 3570.262. Eligible project purposes can be found at 7 CFR 3570.263. Ineligible project purposes can be found at 7 CFR 3570.264.

Non-tribal applicants proposing to provide Technical Assistance to Tribes should provide adequate documentation (for example, a letter of support from the Tribe or Tribes) that the Technical Assistance they are proposing to provide is supported by the Tribes they plan to serve.

Any corporation that has been convicted of a felony criminal violation under any Federal law within the past 24 months, or that has any unpaid Federal tax liability that has been assessed, for which all judicial and administrative remedies have been exhausted or have lapsed, and that is not being paid in a timely manner pursuant to an agreement with the authority responsible for collecting the tax liability, is not eligible for financial assistance provided with full-year appropriated funds, unless a Federal agency has considered suspension or debarment of the corporation and has made a determination that this further action is not necessary to protect the interests of the Government.

Debarment and suspension information is required in accordance with 2 CFR parts 417 (Nonprocurement Debarment and Suspension) and 180 (OMB Guidelines to Agencies on Governmentwide Debarment and Suspension (Nonprocurement). The section heading “What information must I provide before entering into a covered transaction with a Federal agency?” located at 2 CFR 180.335 is part of OMB's Guidance for Grants and Agreements concerning Governmentwide Debarment and Suspension. Applicants are not eligible if they have been debarred or suspended or otherwise excluded from, or ineligible for, participation in Federal assistance programs under 2 CFR parts 180 and 417.

Technical Assistance Providers may be located anywhere within the United States. However, Technical Assistance Providers must provide technical assistance to Ultimate Recipients. The eligible Ultimate Recipient's project must be located in a rural area in a county with a disaster as declared by the President of the United States. The term rural or rural area is defined in section 343(a)(13)(C) of the Consolidated Farm and Rural Development Act (7 U.S.C. 1991(a)(13)) as a city, town or, unincorporated area that has a population of not more than 20,000 inhabitants. The boundaries for unincorporated areas in determining populations will be based on the Census Designated Place (CDP.) Data from the most recent decennial census of the United States will be used in determining population.

2. Eligible use of funds. Grant funds must be used to provide technical assistance to repair essential community facilities damaged by Presidentially declared disasters in calendar year 2022. Examples of technical assistance may include identifying public and private funding resources, assisting communities in identifying and planning for repairs needed, and preparing applications for financial assistance. FEMA must have provided a notice declaring the disaster

3. Cost Sharing or Matching. Matching funds are not required. Matching funds must be in the form of cash. Up to 10 points may be awarded for applications that contain matching funds as provided in 7 CFR 3570.273(g).

4. Other. All submitted applications must meet the eligibility requirements in this notice and at 7 CFR part 3570 subpart F (https://www.ecfr.gov/current/title-7/part-3570/subpart-F), and application requirements noted in 7 CFR 3570.267 (https://www.ecfr.gov/current/title-7/subtitle-B/chapter-XXXV/part-3570/subpart-F/section-3570.267.

Applications will not be considered for funding if they do not provide sufficient information to determine eligibility or are missing required elements.

D. Application and Submission Information

1. Address to Request Application Package. For further information on the CF TAT Grant Program, entities that want to apply for assistance should contact the USDA RDSO provided in the ADDRESSES section of this notice to obtain copies of the application package. Application information is also available at https://www.grants.gov/. If you require alternative means of communication for program information (e.g., Braille, large print, audiotape, etc.) please contact USDA's TARGET Center at (202) 720-2600 (voice and TDD) or the Federal Relay Service at (800) 877-8339. Prior to official submission of applications, applicants may request technical assistance or other application guidance from the Agency, as long as such requests are made prior to November 14, 2023. Technical assistance is not meant to be an analysis or assessment of the quality of the materials submitted, a substitute for agency review of completed applications, nor a determination of eligibility, if such determination requires in-depth analysis.

The Agency will not solicit or consider scoring nor eligibility information that is submitted after the application deadline. The Agency reserves the right to contact applicants to seek clarification information on materials contained in the submitted application.

2. Content and Form of Application Submission. An application must contain all of the required elements outlined in 7 CFR 3570.267. Each application must address the applicable scoring criteria presented in 7 CFR 3570.273 for the type of funding being requested. The applicant must provide documentation that the Ultimate Recipient is located within an eligible disaster area.

3. System for Award Management and Unique Entity Identifier. At the time of application, each applicant must have an active registration in the System for Award Management (SAM) before submitting its application in accordance with 2 CFR part 25. In order to register in SAM, entities will be required to request a Unique Entity Identifier (UEI). Instructions for obtaining the UEI are available at https://sam.gov/content/entity-registration.

a. Applicant must maintain an active SAM registration, with current, accurate and complete information, at all times during which it has an active Federal award or an application under consideration by a Federal awarding agency.

b. Applicant must ensure they complete the Financial Assistance General Certifications and Representations in SAM.

c. Applicants must provide a valid UEI in its application, unless determined exempt under 2 CFR 25.110.

d. The Agency will not make an award until the applicant has complied with all SAM requirements including providing the UEI. If an applicant has not fully complied with the requirements by the time the Agency is ready to make an award, the Agency may determine that the applicant is not qualified to receive a Federal award and use that determination as a basis for making a Federal award to another applicant.

4. Submission Dates and Times. Application Funding Submission Deadlines:

a. Paper submissions: The deadline for receipt of a paper application is 4:00 p.m. local time, November 29, 2023.

b. Electronic submissions: Electronic applications will be accepted via Grants.gov. The deadline for receipt of an electronic application via Grants.gov is 11:59 p.m. Eastern Time on November 24, 2023.

Explanation of Dates: The application dates and times are firm. If the due date falls on a Saturday, Sunday, or Federal holiday, the application is due the next business day. The Agency will not consider any application received after the deadline.

Note: Applicants intending to mail applications must provide sufficient time to permit delivery on or before the closing deadline date and time. Acceptance by the United States Postal Service or private mailer does not constitute delivery. Facsimile (FAX), electronic mail, and postage due applications will not be accepted. Prior to official submission of applications, applicants may request technical assistance or other application guidance from the Agency, as long as such requests are made prior to November 14, 2023.

5. Intergovernmental Review. This program is subject to Executive Order 12372, which requires intergovernmental consultation with state and local officials. RD conducts intergovernmental consultation as implemented with 2 CFR 415 subpart C. Not all States have chosen to participate in the intergovernmental review process. A list of participating States (SPOC List) is available at the following website: https://www.whitehouse.gov/omb/management/office-federal-financial-management/.

E. Application Review Information

1. Criteria. All eligible and complete applications will be evaluated and scored based on the selection criteria and weights contained in 7 CFR 3570.273 (see, https://www.ecfr.gov/current/title-7/subtitle-B/chapter-XXXV/part-3570/subpart-F/section-3570.273). Failure to address any one of the criteria by the application deadline will result in the application being determined ineligible, and the application will not be considered for funding.

All applications that are complete and eligible will be scored and ranked competitively. The categories for scoring criteria used are the following:

The Agency will score each application using the following scoring factors unless otherwise provided in an annual Notice in the Federal Register:

(a) Experience: Applicant Experience at developing and implementing successful technical assistance and/or training programs:

(1) More than 10 years—40 points.

(2) More than 5 years to 10 years—25 points.

(3) 3 to 5 years—10 points.

(b) No prior grants received:

(1) Applicant has never received a CF TAT Grant—5 points.

(c) Population: The average population of proposed area(s) to be served:

(1) 2,500 or less—15 points.

(2) 2,501 to 5,000—10 points.

(3) 5,001 to 10,000—5 points.

(d) MHI: The average median household income (MHI) of proposed area to be served is below the higher of the poverty line or:

(1) 60 percent of the State's MHI—15 points.

(2) 70 percent of the State MHI—10 points.

(3) 90 percent of the State's MHI—5 points.

(e) Multi-jurisdictional: The proposed technical assistance or training project a part of a Multi-jurisdictional project comprised of:

(1) More than 10 jurisdictions—15 points.

(2) More than 5 to 10 jurisdictions—10 points.

(3) 3 to 5 jurisdictions—5 points.

(f) Soundness of approach: Up to 10 points.

(1) Needs assessment: The problem/issue being addressed is clearly defined, supported by data, and addresses the needs;

(2) Goals & objectives are clearly defined, tied to the need as defined in the work plan, and are measurable;

(3) Work plan clearly articulates a well thought out approach to accomplishing objectives & clearly identifies who will be served by the project;

(4) The proposed activities are needed in order for a complete Community Facilities loan and/or grant application.

(g) Matching funds:

(1) There is evidence of the commitment of other cash funds of 20% of the total project costs 10 points.

(2) There is evidence of the commitment of other cash funds of 10% of the total project costs 5 points.

(h) State Director discretionary points. The State Director may award up to 10 discretionary points for the highest priority project in each state, up to 7 points for the second highest priority project in each state and up to 5 points for the third highest priority project that address unforeseen exigencies or emergencies, such as the loss of a community facility due to an accident or natural disaster, or other areas of need in their particular state. The State Director will place written documentation in the project file each time the State Director assigns these points—Up to 10 points.

(i) Administrator discretionary points. The Administrator may award up to 20 discretionary points for projects to address geographic distribution of funds, emergency conditions caused by economic problems, natural disasters and other initiatives identified by the Secretary—Up to 20 points.

2. Review and Selection Process. The Rural Development State Offices will review applications to determine if applications are eligible for assistance based on requirements contained in 7 CFR 3570, subpart F. If determined eligible, your application will be submitted to the National Office. Funding of projects is subject to the intermediary's satisfactory submission of the additional items required by that subpart and the USDA RD Letter of Conditions. Discretionary priority points, under § 3570.273 (see, § 3570.273(h) and § 3570.273(i)), may be awarded with documented justification for the following categories:

• Assisting rural communities to recover economically through more and better market opportunities and through improved infrastructure.

• Ensuring all rural residents have equitable access to RD programs and benefits from RD funded projects.

• Reducing climate pollution and increasing resilience to the impacts of climate change through economic support to rural communities.

F. Federal Award Administration Information

1. Federal Award Notices. Successful applicants will receive notification for funding from the RDSO. Applicants must comply with all applicable statutes and regulations before the grant award can be approved. If an application is withdrawn by the applicant, it can be resubmitted and will be evaluated as a new application, provided the application is resubmitted before the submission deadline as stated in section D4 of this notice.

2. Administrative and National Policy Requirements. Additional requirements that apply to Grantees selected for this Program can be found in 7 CFR part 3570, subpart F (https://www.ecfr.gov/current/title-7/part-3570/subpart-F). Awards are subject to USDA grant regulations at 2 CFR part 400 (https://www.ecfr.gov/current/title-2/part-400) which incorporate the Office of Management and Budget (OMB) regulations at 2 CFR part 200 (https://www.ecfr.gov/current/title-2/part-200).

If the applicant wishes to consider beginning their project performance prior to the grant being officially closed, all pre-evaluation award costs must be approved in writing and in advance by the Agency.

In addition, all recipients of Federal financial assistance are required to report information about first-tier sub-awards and executive compensation (see, 2 CFR part 170 (https://www.ecfr.gov/current/title-2/part-170). The applicant will be required to have the necessary processes and systems in place to comply with the Federal Funding Accountability and Transparency Act of 2006 (Pub. L. 109-282) and reporting requirements (see, 2 CFR 170.200(b) (https://www.ecfr.gov/current/title-2/section-170.200#p-170.200(b)), unless the recipient is exempt under 2 CFR 170.110(b) (https://www.ecfr.gov/current/title-2/section-170.110#p-170.110(b)).

The following additional requirements apply to Grantees selected for these Programs:

(a) Form RD 1940-1, “Request for Obligation of Funds.”

(b) Form RD 1942-46, “Letter of Intent to Meet Conditions.”

(c) Form SF-LLL, “Disclosure of Lobbying Activities,” if applicable.

(d) Form SF-270, “Request for Advance or Reimbursement.”

(e) Form RD 400-4, “Assurance Agreement” must be completed by the applicant and each prospective ultimate recipient.

(f) Grantees must collect and maintain data provided by ultimate recipients on race, sex, and national origin and ensure ultimate recipients collect and maintain this data. Race and ethnicity data will be collected in accordance with OMB Federal Register notice, “Revisions to the Standards for the Classification of Federal Data on Race and Ethnicity” (62 FR 58782), October 30, 1997. Sex data will be collected in accordance with title IX of the Education Amendments of 1972. These items should not be submitted with the application but should be available upon request by the Agency.

(e) The applicant and the ultimate recipient must comply with title VI of the Civil Rights Act of 1964, title IX of the Education Amendments of 1972, Americans with Disabilities Act (ADA), section 504 of the Rehabilitation Act of 1973, Age Discrimination Act of 1975, Executive Order 12250, Executive Order 13166 Limited English Proficiency (LEP), and 7 CFR part 1901, subpart E.

3. Reporting. The Grantee must provide reports as required by 7 CFR part 3570, subpart F. A financial status report, SF 425 “Federal Financial Report,” and a project performance report will be required as provided in the grant agreement. The financial status report must show how grant funds and matching funds have been used to date. A final report may serve as the last report. Grantees shall constantly monitor performance to ensure that time schedules are being met and projected goals by time periods are being accomplished. Applicants may find the reporting requirements for this grant at 7 CFR 3570.276 (https://www.ecfr.gov/current/title-7/subtitle-B/chapter-XXXV/part-3570/subpart-F/section-3570.276) in addition to any reports required by 2 CFR part 200 (https://www.ecfr.gov/current/title-2/part-200) and 2 CFR 400.1 (https://www.ecfr.gov/current/title-2/section-400.1) to 400.2 (https://www.ecfr.gov/current/title-2/section-400.2), and 2 CFR parts 415 to 422 (https://www.ecfr.gov/current/title-2/section-415).

G. Federal Awarding Agency Contact(s)

For general questions about this announcement, please contact your USDA RDSO as provided in the ADDRESSES section of this notice or the program website at: https://www.rd.usda.gov/programs-services/community-facilities/community-facilities-direct-loan-grant-program.

H. Other Information

(1) Civil Rights Requirements. All grants made under this Notice are subject to Title VI of the Civil Rights Act of 1964 as required by the USDA (7 CFR part 15, subpart A) and Section 504 of the Rehabilitation Act of 1973, Title VIII of the Civil Rights Act of 1968, Title IX, Executive Order 13166 (Limited English Proficiency), Executive Order 11246, and the Equal Credit Opportunity Act of 1974.

(2) Paperwork Reduction Act. In accordance with the Paperwork Reduction Act of 1995, the information collection requirement contained in this notice has been approved by OMB under OMB Control Number 0575-0198.

(3) National Environmental Policy Act. All recipients under this notice are subject to the requirements of 7 CFR 1970, available at: https://rd.usda.gov/resources/environmental-studies/environmental-guidance.

(4) Nondiscrimination Statement. In accordance with Federal civil rights laws and USDA civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, staff office; or the Federal Relay Service at (800) 877-8339.

To file a program discrimination complaint, a complainant should complete a Form AD-3027, USDA Program Discrimination Complaint Form, which can be obtained online at https://www.usda.gov/sites/default/files/documents/ad-3027.pdf, from any USDA office, by calling (866) 632-9992, or by writing a letter addressed to USDA. The letter must contain the complainant's name, address, telephone number, and a written description of the alleged discriminatory action in sufficient detail to inform the Assistant Secretary for Civil Rights about the nature and date of an alleged civil rights violation.

The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

USDA is an equal opportunity provider, employer, and lender.

Joaquin Altoro,
Administrator, Rural Housing Service.

[FR Doc. 2023-18800 Filed 8-30-23; 8:45 am]

BILLING CODE 3410-XV-P